DEPARTMENT OF TRANSPORTATION

Federal Aviation Administration

14 CFR Part 21

[Docket No. FAA-2019-0280]

Primary Category Design Standards; Cub Crafters, Inc., Model CC21-180 Airplane

AGENCY: Federal Aviation Administration (FAA), DOT.

ACTION: Issuance of final airworthiness design standards.

SUMMARY: These airworthiness design standards are issued to Cub Crafters, Inc., for type certification of the Model CC21-180 airplane under the regulations for primary category aircraft.

DATES: These airworthiness design standards are effective September 9, 2019.

FOR FURTHER INFORMATION CONTACT: Mr. Raymond N. Johnston, AIR-692, Federal Aviation Administration, Policy & Innovation Division, Small Airplane Standards Branch, 901 Locust, Room 301, Kansas City, MO 64106, telephone (816) 329-4159, FAX (816) 329-4090, email raymond.johnston@faa.gov.

SUPPLEMENTARY INFORMATION: Any person may obtain a copy of this information by contacting the person named above under FOR FURTHER INFORMATION CONTACT.

Background

The “primary” category for aircraft was created specifically for the simple, low performance personal aircraft. Section 21.17, Designation of applicable regulations, paragraph (f) provides a means for the FAA to determine appropriate airworthiness standards for the particular primary category aircraft. The FAA procedure establishing appropriate airworthiness standards includes reviewing and possibly revising an applicant's proposal, publication of the submittal in the Federal Register for public review and comment, and addressing the comments. After all necessary revisions, the standards are published as approved FAA airworthiness standards. This document prescribes airworthiness standards for the issuance of a type certificate for the Cub Crafters, Inc., Model CC21-180, a primary category airplane. These airworthiness standards have a long safe service history in similar airplanes; therefore, they provide an appropriate level of safety. These airworthiness standards are based on standards that were used to certificate the same design as a normal and utility category airplane, Cub Crafters Model CC19-180, in accordance with FAA Type Certiciate A00053SE.¹

¹ See http://rgl.faa.gov/Regulatory_and_Guidance_Library/rgMakeModel.nsf/0/CACFCFE4D1346CEB862582D300654D21?OpenDocument&Highlight=a00053se.

Comments

Proposed Primary Category Design Standards; Cub Crafters, Inc., Model CC21-180 Airplane was published in the Federal Register on April 17, 2019 (84 FR 15992). No comments were received, and the airworthiness design standards are adopted as proposed.

Applicability

These airworthiness design standards under the primary category rule are applicable to the Cub Crafters, Inc., Model CC21-180 airplane. Should Cub Crafters, Inc. wish to apply these airworthiness design standards to other airplane models, it must submit a new airworthiness design standard application under the primary rule category.

Conclusion

This action affects only certain airworthiness design standards on the Cub Crafters, Inc., Model CC21-180 airplane. It is not a standard of general applicability and it affects only the applicant who applied to the FAA for approval of these features on the rotorcraft.

Citation

The authority citation for these airworthiness standards is as follows:

Authority: 49 U.S.C. 106(g), 40113 and 44701.

Final Airworthiness Standards for Type Certification in the Primary Category

For the airplane:

Title 14, Code of Federal Regulations (14 CFR) part 23, effective December 18, 1964, as amended by 23-1 through 23-62, all sections except § 23.562 Emergency Landing Dynamic Conditions, and as modified by the following:

Equivalent Level of Safety (ELOS) No. TC10279SE-A-C-1 for the emergency exit requirements of § 23.807 ²

² See http://rgl.faa.gov/Regulatory_ and_Guidance_Library/rgELOS.nsf/0/F3FC2C42E551237F86257FC60046467D?OpenDocument&Highlight=tc10279se-a-c-1.

ELOS No. AT12936SE-A-S-1 for the electronic display instrument system requirements of § 23.1311 ³

³ See http://rgl.faa.gov/Regulatory_ and _Guidance_Library/rgELOS.nsf/0/E441A4F21736F7E98625814500674B2A?OpenDocument.

ELOS No. TC10279SE-A-G-9 for corrections to technical errors in amendment 23-62 ⁴

⁴ See http://rgl.faa.gov/Regulatory_and_Guidance_Library/rgELOS.nsf/0/773696FE2DDEA61D86257FF50065B4B6?OpenDocument.

ELOS No. AT12949SE-A-F-1 for the longitudinal trim requirements of § 23.161 ⁵

⁵ See http://rgl.faa.gov/Regulatory_and_Guidance_Library/rgELOS.nsf/0/0D9E358153C4CF028625825D005E5D15?OpenDocument.

For noise standards:

14 CFR part 36 as amended by 36-1 through 36-30, appendix G.

Issued in Kansas City, Missouri on August 1, 2019.
Pat Mullen,
Manager, Small Airplane Standards Branch, Policy and Innovation Division, Aircraft Certification Service.

[FR Doc. 2019-17013 Filed 8-8-19; 8:45 am]

BILLING CODE 4910-13-P